DEPARTMENT OF TRANSPORTATION

Federal Aviation Administration

14 CFR Part 39

[Docket No. 2001-NM-380-AD]

RIN 2120-AA64

Airworthiness Directives; Airbus Model A330-301, -321, -322, -341, and -342 Series Airplanes; and Model A340 Series Airplanes

AGENCY: Federal Aviation Administration, DOT.

ACTION: Notice of proposed rulemaking (NPRM).

SUMMARY: This document proposes the adoption of a new airworthiness directive (AD) that is applicable to certain Airbus Model A330-301, -321, -322, -341, and -342 series airplanes; and certain Model A340 series airplanes. This proposal would require inspecting for and repairing cracks of the wire harness slots in the inner rear spars of the wings between ribs 4 and 5, and cold-expanding crack-free wire harness slots and bolt holes. This action is necessary to prevent cracking of the wire harness slot, which could result in reduced structural integrity of the wing. This action is intended to address the identified unsafe condition.

DATES: Comments must be received by December 29, 2003.

ADDRESSES: Submit comments in triplicate to the Federal Aviation Administration (FAA), Transport Airplane Directorate, ANM-114, Attention: Rules Docket No. 2001-NM-380-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-380-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-380-AD.” The postcard will be date stamped and returned to the commenter.

Availability of NPRMs

Any person may obtain a copy of this NPRM by submitting a request to the FAA, Transport Airplane Directorate, ANM-114, Attention: Rules Docket No. 2001-NM-380-AD, 1601 Lind Avenue, SW., Renton, Washington 98055-4056.

Discussion

The Direction Générale de l'Aviation Civile (DGAC), which is the airworthiness authority for France, notified the FAA that an unsafe condition may exist on certain Airbus Model A330-301, -321, -322, -341, and -342 series airplanes; and certain Model A340 series airplanes. The DGAC advises that major wing fatigue tests revealed cracks initiating from the wire harness slot in the inner rear spars of the wings between ribs 4 and 5. The cracking can occur on airplanes that have not been modified to reinforce the wire harness slot and the adjacent holes. The results indicate that the fatigue life for the wire harness slot is less than the design requirement. Cracks in the wire harness slot, if not corrected, could result in reduced structural integrity of the wing.

Explanation of Relevant Service Information

Airbus has issued Service Bulletins A330-57-3055 and A340-57-4062, both Revision 01, dated May 2, 2002. The service bulletins describe procedures for a modification of the inner rear spars of the wings. The modification involves an eddy current surface crack inspection of the wire harness slots in the rear spars of the wings between ribs 4 and 5, a high-frequency eddy current rototest inspection for cracks in the area around the bolt holes that attach the support plates of the electrical connectors, and cold-expansion of the wire harness slots and the bolt holes. The service bulletins recommend contacting Airbus if cracks are found. Accomplishment of the actions specified in the service bulletins is intended to adequately address the identified unsafe condition. The DGAC classified these service bulletins as mandatory and issued French airworthiness directives 2001-578(B) and 2001-579(B), both dated November 28, 2001, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Difference Between Proposed AD and Service Bulletins

Although the service bulletins specify that operators may contact the manufacturer for disposition of certain repair conditions, this proposal would require operators to repair those conditions per a method approved by either the FAA or the DGAC (or its delegated agent). In light of the type of repair that would be required to address the unsafe condition, and consistent with existing bilateral airworthiness agreements, we have determined that, for this proposed AD, a repair approved by either the FAA or the DGAC would be acceptable for compliance with this proposed AD.

Cost Impact

We estimate that this proposed AD would affect 1 Model A330 series airplane of U.S. registry. Currently, there are no affected Model A330-341 or A340 series airplanes on the U.S. Register. The proposed actions would take about 30 work hours per airplane, at an average labor rate of $65 per work hour. Required parts would cost about $1,075 per airplane. Based on these figures, the cost impact of this proposed action is estimated to be $3,025 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-380-AD.

Applicability: The airplanes listed in Table 1 of this AD, certificated in any category:

Table 1.—Applicability
Model— | Except those modified by Airbus Modification— | Or Airbus Service Bulletin—
A330-301, −321, −322, −341, and −342 series airplanes | 43503 | A330-57-3055, dated November 28, 2001, or Revision 01, dated May 2, 2002.
A340 series airplanes | 43692 | A340-57-4062, dated November 28, 2001, or Revision 01, dated May 2, 2002.

Compliance: Required as indicated, unless accomplished previously.

To prevent cracking of the wire harness slot on the inner rear spar of the wing, which could result in reduced structural integrity of the wing, accomplish the following:

Modification

(a) At the time specified in paragraph (a)(1), (a)(2), or (a)(3) of this AD: Modify the inner rear spars of the wings in accordance with the Accomplishment Instructions of Airbus Service Bulletin A330-57-3055 or A340-57-4062, both Revision 01, both dated May 2, 2002, as applicable. The modification involves an eddy current surface crack inspection of the wire harness slots in the rear spars of the wings between ribs 4 and 5, a high-frequency eddy current rototest inspection for cracks in the area around the bolt holes that attach the support plates of the electrical connectors, and cold-expansion of the wire harness slots and the bolt holes.

(1) For Model A330 series airplanes: Inspect before the accumulation of 16,500 total flight cycles or 51,400 total flight hours, whichever occurs first.

(2) For Model A340 series airplanes, pre-Modification 41300: Inspect before the accumulation of 14,500 total flight cycles or 75,400 total flight hours, whichever occurs first.

(3) For Model A340 series airplanes, post-Modification 41300: Inspect before the accumulation of 13,400 total flight cycles or 70,000 total flight hours, whichever occurs first.

(b) A modification done before the effective date of this AD in accordance with Airbus Service Bulletin A330-57-3055 or A340-57-4062, both dated November 28, 2001, is acceptable for compliance with the applicable requirements of this AD.

Repair

(c) If any crack is found during an inspection required by paragraph (a) of this AD: Before further flight, repair in accordance with a method approved by either the Manager, International Branch, ANM-116, Transport Airplane Directorate, FAA; or the Direction Générale de l'Aviation Civile (or its delegated agent).

Alternative Methods of Compliance

(d) In accordance with 14 CFR 39.19, the Manager, International Branch, ANM-116, is authorized to approve alternative methods of compliance for this AD.

Note 1: The subject of this AD is addressed in French airworthiness directives 2001-578(B) and 2001-579(B), both dated November 28, 2001.

Issued in Renton, Washington, on November 21, 2003.
Vi L. Lipski,
Manager, Transport Airplane Directorate, Aircraft Certification Service.

[FR Doc. 03-29696 Filed 11-26-03; 8:45 am]

BILLING CODE 4910-13-P